DEPARTMENT OF DEFENSE

Department of the Army; Corps of Engineers

Withdrawal of Notice for Preparation of an Environmental Impact Statement for the Pine Mountain Dam & Lake Project, AR

AGENCY: Department of the Army, U.S. Army Corps of Engineers, DOD.

ACTION: Notice.

SUMMARY: The Little Rock District of the U.S. Army Corps of Engineers (Corps) is withdrawing its intent to prepare an Environmental Impact Statement (EIS) for the Pine Mountain Dam & Lake Project, AR. The original Notice of Intent (NOI) was published in the Federal Register on September 25, 2009 (74 FR 48934). The River Valley Regional Water District, sponsor of the study, has recently requested the study be suspended until a later date (to be determined).

FOR FURTHER INFORMATION CONTACT: Ms. Dana Coburn, Chief, Environmental Branch, Planning and Environmental Division, P.O. Box 867, Little Rock, Arkansas 72203-0867, Telephone 501-324-5601, e-mail: Dana.O.Coburn@usace.army.mil.

SUPPLEMENTARY INFORMATION: The Pine Mountain Dam project was authorized for construction by Congress in 1965. Additional studies and a preliminary draft EIS were prepared in the 1970s. In 1980, prior to public review of the EIS, the local sponsor decided not to continue sponsoring the project. In 2000, the River Valley Regional Water District identified themselves as a willing sponsor and requested that the Corps of Engineers reevaluate the project. The proposed Pine Mountain Dam, Arkansas, General Reevaluation Report was undertaken by USACE, Little Rock District under the direction of the U.S. Congress. The study would have consisted of major hydraulics and hydrologic investigations, economic analyses, alternative development and related analyses in conjunction with the EIS.

Glen A. Masset,
Colonel, EN, Commanding.

[FR Doc. 2010-27062 Filed 10-25-10; 8:45 am]

BILLING CODE 3720-58-P